DEPARTMENT OF COMMERCE

National Oceanic and Atmospheric Administration

[RTID 0648-XA227]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting via webinar of its Standing, Reef Fish, Mackerel, Spiny Lobster, Red Drum, Ecosystem and Socioeconomic Scientific and Statistical Committees (SSC).

DATES: The webinar will be held on Monday, June 29, 2020, from 10 a.m. to 12 p.m., EDT.

ADDRESSES: The meeting will take place via webinar; you may register by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Dr. John Froeschke, Deputy Director, Gulf of Mexico Fishery Management Council; john.froeschke@gulfcouncil.org, telephone: (813) 348-1630.

SUPPLEMENTARY INFORMATION:

Monday, June 29, 2020; 10 a.m.-12 p.m.

The meeting will begin with Introductions, Adoption of Agenda and Approval of Minutes from the June 1, 2020 webinar meeting; and, review of the Scope of Work.

The Committees will review National Marine Fisheries Service's (NMFS) Procedural Guidance for Changing Assessed Stock Status from Known to Unknown; and, the Council's Draft Comment letter.

The Committees will review any other business items, during which any public comments will be heard.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take action to address the emergency.

Authority: 16 U.S.C. 1801 et seq.

Dated: June 10, 2020.
Tracey L. Thompson,
Acting Deputy Director, Office of Sustainable Fisheries, National Marine Fisheries Service.

[FR Doc. 2020-12835 Filed 6-12-20; 8:45 am]

BILLING CODE 3510-22-P